DEPARTMENT OF TRANSPORTATION

Coast Guard

[USCG-1999-6334]

Information Collection by Agency Under Review by the Office of Management and Budget (OMB)

AGENCY: Coast Guard, DOT.

ACTION: Request for comments.

SUMMARY: In compliance with the Paperwork Reduction Act of 1995, this request for comments announces that the Coast Guard has forwarded the Information Collection Reports (ICRs) abstracted below to OMB for review and comment. Our ICRs describe the information that we seek to collect from the public. Review and comment by OMB ensure that we impose only paperwork burdens commensurate with our performance of duties.

DATES: Please submit comments on or before March 13, 2000.

ADDRESSES: Please send comments to both (1) the Docket Management System (DMS), U.S. Department of Transportation (DOT), room PL-401, 400 Seventh Street SW, Washington, DC 20590-0001, and (2) the Office of Information and Regulatory Affairs (OIRA), Office of Management and Budget (OMB), 725 17th Street NW, Washington, DC 20503, to the attention of the Desk Officer for the USCG.

Copies of the complete ICRs are available for inspection and copying in public docket USCG-1999-6334 of the Docket Management Facility between 10 a.m. and 5 p.m., Monday through Friday, except Federal holidays; for inspection and printing on the internet at http://dms.dot.gov; and for inspection from the Commandant (G-SII-2), U.S. Coast Guard, room 6106, 2100 Second Street S.W., Washington, DC, between 10 a.m. and 4 p.m., Monday through Friday, except Federal holidays.

FOR FURTHER INFORMATION CONTACT: Barbara Davis, Office of Information Management, 202-267-2326, for questions on this document; Dorothy Walker, Chief, Documentary Services Division, U.S. Department of Transportation, 202-366-9330, for questions on the docket.

SUPPLEMENTARY INFORMATION:

Regulatory History

This request constitutes the 30-day notice required by OMB. The Coast Guard has already published [64 FR 57181 (October 22, 1999)] the 60-day notice required by OMB. That request elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 1999-6334. Comments to OIRA are best assured of having their full effect if OIRA receives them 30 or fewer days after the publication of this request.

Information Collection Requests

1. Title: Vessel Reporting Requirement.

OMB Control Number: 2115-0551.

Type of Request: Extension of currently approved collection.

Affected Public: Owners, charterers, managing operators, or agents of U.S. vessels.

Form(s): N/A.

Abstract: The collection of information requires the owner, charterer, managing operator, or agent of a vessel of the United States to immediately notify the Coast Guard if there is a reason to believe that his or her vessel may be lost or imperiled. The person must follow up the report with written communication submitted to the Coast Guard within 24 hours.

Annual Estimated Burden Hours: The estimated burden is 137 hours annually.

2. Title: Report of Oil or Hazardous Substance Discharge.

OMB Control Number: 2115-0137.

Type of Request: Extension of a currently approved collection.

Affected Public: Persons in charge of vessels, onshore or offshore facilities.

Forms: N/A.

Abstract: The collection of information requires that any person in charge of a vessel, an onshore or offshore facility report to the National Response Center, as soon as he or she has knowledge of any discharge of oil or a hazardous substance.

Annual Estimated Burden Hours: The estimated burden is 7,917 hours annually.

Dated: February 4, 2000.
G.N. Naccara,
Rear Admiral, U.S. Coast Guard, Director of Information and Technology.

[FR Doc. 00-3156 Filed 2-10-00; 8:45 am]

BILLING CODE 4910-15-P